DEPARTMENT OF COMMERCE

National Oceanic and Atmospheric Administration

50 CFR Part 679

[Docket No. 000629198-0198-01; I.D. 051500D]

RIN 0648-AM72

Fisheries of the Exclusive Economic Zone Off Alaska; Western Alaska Community Development Quota Program

AGENCY: National Marine Fisheries Service (NMFS), National Oceanic and Atmospheric Administration (NOAA), Commerce.

ACTION: Proposed rule; request for comments.

SUMMARY: NMFS proposes regulations to implement Amendment 66 to the Fishery Management Plan for the Groundfish Fishery of the Bering Sea and Aleutian Islands Area (FMP) to remove the allocation of squid to the Western Alaska Community Development Quota (CDQ) Program. This proposed rule also would implement regulatory amendments under the American Fisheries Act (AFA) requiring that only pollock caught while directed fishing for pollock CDQ accrue against the pollock CDQ allocation, and revising the definition of “directed fishing for pollock CDQ.” Pollock caught incidentally in other groundfish CDQ fisheries would accrue against the pollock incidental catch allowance (ICA) established under the AFA. This action is necessary to implement Amendment 66 and the CDQ Program-related provisions of the AFA. It is intended to further the goals and objectives of the FMP.

DATES: Comments must be received by August 31, 2000.

ADDRESSES: Written comments should be sent to Sue Salveson, Assistant Regional Administrator, Sustainable Fisheries Division, Alaska Region, NMFS, P.O. Box 21668, Juneau, AK 99802, Attn: Lori Gravel. Comments also may be hand delivered or couriered to the Federal Building, 709 West 9th Street, Juneau, AK. Comments also may be sent via facsimile (fax) to 907-586-7465. Comments will not be accepted if submitted via e-mail or the Internet. Copies of Amendment 66 to the FMP and the two Environmental Assessment/Regulatory Impact Review/Initial Regulatory Flexibility Analyses (EA/RIR/IRFA) prepared for these actions are available from NMFS at the above address, or by calling the Alaska Region, NMFS, at 907-586-7228.

FOR FURTHER INFORMATION CONTACT: Sally Bibb, 907-586-7389, sally.bibb@noaa.gov.

SUPPLEMENTARY INFORMATION:

Management Background and Need for Action

NMFS manages fishing for groundfish by U.S. vessels in the exclusive economic zone of the Bering Sea and Aleutian Islands management area (BSAI) according to the FMP. The North Pacific Fishery Management Council (Council) prepared the FMP under authority of the Magnuson-Stevens Fishery Conservation and Management Act (Magnuson-Stevens Act). Regulations governing fishing by U.S. vessels appear at 50 CFR parts 600 and 679.

The Council has submitted Amendment 66 for Secretarial review. NMFS published a Notice of Availability of the FMP amendment at 65 FR 34434, May 30, 2000, and invited comments on the FMP amendment through July 31, 2000. All written comments received by July 31, 2000, whether specifically directed to the FMP amendment, the proposed rule, or both, will be considered in the approval/disapproval decision on the FMP amendment.

Two issues are addressed in this proposed rulemaking. First, the proposed rule would add a definition to 50 CFR part 679 for “directed fishing for pollock CDQ” to permanently implement the intent of the AFA with respect to pollock CDQ accounting. The proposed definition would determine whether pollock caught while CDQ fishing accrues against the pollock CDQ allocation or the pollock ICA. Second, the proposed rule would remove the allocation of squid to the CDQ Program to prevent the catch of squid CDQ from limiting the catch of pollock CDQ.

Defining Directed Fishing for Pollock CDQ

Section 206(a) of the AFA specifies that “10 percent of the total allowable catch of pollock in the Bering Sea and Aleutian Islands Management Area shall be allocated as a directed fishing allowance to the Western Alaska Community Development Quota Program established under section 305(i) of the Magnuson-Stevens Act.” Under section 206(b) of the AFA the incidental catch of pollock in non-pollock CDQ fisheries does not accrue against the pollock CDQ allocation created in section 206(a). Rather, the incidental catch of pollock in the CDQ fisheries accrues against the pollock ICA established in the groundfish specifications for pollock incidental catch from the CDQ and non-CDQ fisheries.

NMFS regulations at the time the AFA became effective required that all pollock caught in all groundfish CDQ fisheries accrue against the CDQ group's pollock CDQ allocation. NMFS issued an emergency interim rule (EIR) on January 26, 1999 (64 FR 3877, which was extended through December 31, 1999, at 64 FR 34743 on June 29, 1999), to revise CDQ catch accounting regulations for 1999 to be consistent with the AFA. Permanent rulemaking is necessary to revise CDQ catch accounting regulations to implement the AFA.

NMFS and the Council have considered four alternatives for defining directed fishing for pollock CDQ. Alternative 1 is the status quo, which would not distinguish between pollock caught while directed fishing for pollock CDQ from pollock caught incidentally to other groundfish CDQ fisheries. This alternative is not consistent with the AFA.

Alternative 2 would define directed fishing for pollock CDQ in the same manner as was implemented under the EIR in 1999. Pollock caught in hauls by a catcher/processor or deliveries by a catcher vessel in which pollock represents 40 percent or more of the total groundfish catch by weight would accrue against the pollock CDQ (the “40-percent threshold”). Pollock caught in hauls or deliveries in which pollock represents less than 40 percent of the total groundfish catch would accrue against the pollock ICA.

Alternative 3 is the same as Alternative 2 except that the threshold for defining directed fishing for pollock CDQ would be increased from 40 percent to 60 percent.

Alternative 4 would use maximum retainable amounts to define directed fishing for pollock CDQ, which is the method used to define directed fishing in all non-CDQ groundfish fisheries. A vessel operator would be directed fishing for pollock CDQ if the weight of pollock CDQ retained onboard the vessel was 20 percent or more of the weight of all retained CDQ species onboard the vessel. Under Alternative 4, vessel operators could control whether they were directed fishing for pollock CDQ by discarding the amount of pollock that exceeded the maximum retainable amount. Under Alternatives 2 and 3, vessel operators cannot discard pollock to control whether they are directed fishing for pollock CDQ because the determination of their directed fishery is made on the basis of the percent of pollock in each haul rather than on retained catch composition.

At its June 1999 meeting, the Council considered the alternatives presented in a draft analysis, catch data from the 1998 pollock CDQ fisheries, NMFS' projections about catch in the 1999 CDQ fisheries, public testimony at the Council meeting, and the recommendation of the Council's Advisory Panel (AP). The Council agreed with the AP's recommendations to increase the percentage threshold from 40 percent (Alternative 2) to 60 percent (Alternative 3) for the following reasons. The Council recognized that the AFA allows the CDQ groups to harvest incidental catches of pollock without that pollock catch accruing against the CDQ group's pollock CDQ allocation. The Council believed that NMFS' estimates of the maximum potential incidental catch of pollock under all of the alternatives were high and unlikely to be realized in the actual CDQ fisheries. The Council also believed that the CDQ groups would discourage non-pollock CDQ partners from maximizing the amount of pollock that they can legally catch under the preferred alternative because the CDQ groups are aware that if NMFS' maximum estimates of pollock incidental catch prove true, the Council may be requested to re-evaluate this issue and consider more restrictive measures for the CDQ fisheries.

The Council also recognized that vessels not intending to target on pollock periodically would catch hauls with a high proportion of pollock. The objective in selecting the appropriate percentage threshold is to minimize situations in which (1) a haul or delivery by a vessel intending to target pollock did not meet the definition of directed fishing for pollock CDQ, and (2) a haul or delivery by a vessel not intending to target pollock CDQ did meet the definition of directed fishing for pollock CDQ. However, regardless of the percentage threshold selected, some pollock caught by vessels intending to target pollock would be caught in hauls or deliveries that do not meet the definition of directed fishing for pollock CDQ and that pollock would accrue against the pollock ICA. The opposite situation also may occur. Some vessels not intending to target pollock CDQ may catch pollock in hauls or make deliveries that exceed the 60-percent threshold, in which case, this pollock would accrue against the CDQ group's pollock CDQ allocation.

Three categories of vessels catch pollock in the CDQ fisheries: (1) Trawl vessels that the CDQ group identifies as intending to catch pollock CDQ; (2) trawl vessels intending to target other groundfish CDQ species, such as flatfish, Atka mackerel, rockfish, or Pacific cod; and (3) vessels using nontrawl gear. The proposed definition of directed fishing for pollock CDQ would apply only to vessels using trawl gear. Therefore, all catch of pollock by vessels using longline, pot, jig, or any other nontrawl gear would accrue against the pollock ICA.

In 1999, approximately 100,000 mt of pollock were caught by vessels participating in some CDQ fishery. Of this, 98,800 mt of pollock was caught in trawl hauls in which pollock was equal to or greater than 60 percent of the total catch. The remaining 1,200 mt accrued against the pollock ICA because it was caught by CDQ vessels using nontrawl gear (500 mt pollock) or in trawl hauls in which pollock represented less than 60 percent of the total catch (700 mt).

Removing Squid as a CDQ Species

Currently, all groundfish species or species groups allocated to the CDQ Program are considered CDQ species and each CDQ group is prohibited from exceeding its allocation of any CDQ species. The CDQ groups are expected to reach quotas for some CDQ species before they fully harvest all of their CDQ allocations.

Squid incidental catch is caught primarily by vessels using pelagic trawl gear to fish for pollock. Very little squid is caught in any other BSAI fisheries. Since implementation of the MS CDQ Program in 1998, the CDQ groups have been particularly concerned that they will reach their squid CDQ allocations before they harvest all of their pollock CDQ allocations. The increase of the pollock CDQ allocation to 10 percent of the pollock TAC under the AFA without an increase in the squid CDQ allocation heightened these concerns.

The proposal to remove squid as a CDQ species arose in mid-1998. In the 1998 pollock CDQ fisheries, approximately 342 mt of squid were caught. The squid CDQ allocation was not effective for the 1998 pollock CDQ fisheries. However, the squid catch of 342 mt significantly exceeded 7.5 percent of the squid TAC (148 mt). Catch in the 1998 pollock CDQ fisheries indicated that 148 mt of squid were harvested by August 22, 1998, when the pollock CDQ catch was 57,153 mt. If the squid CDQ allocation had been effective in 1998, this would have resulted in the CDQ groups being unable to harvest 27,669 mt of pollock (84,822 mt—57,153 mt). Based on an average royalty value of $200 per mt for pollock harvested during the B-season, this amount of pollock would have been valued at $5.5 million. Under the 10-percent pollock CDQ allocation, and assuming the same pollock and squid catch rates as achieved in 1998, the amount and value of the pollock catch CDQ that could be foregone would be approximately 42,200 mt (99,200 mt—57,000 mt) and $8.4 million. No specific provision exists in current regulation to allocate back to the non-CDQ fisheries any unharvested pollock CDQ or any other CDQ species.

The 1998 experience with squid incidental catch in the BSAI groundfish fisheries did not occur in 1999. Total squid incidental catch decreased from 915 mt in 1998 to 441 mt in 1999 and squid incidental catch in the CDQ fisheries decreased from 342 mt in 1998 to 41 mt in 1999. The reason for this change in squid incidental catch is not known. However, catch statistics presented in the analysis indicate that squid incidental catch has varied between several hundred mt to over 1,000 mt in the last 10 years.

NMFS and the Council considered two alternatives for the status of squid as a CDQ species: (1) The status quo, which would continue to allocate 7.5 percent of the squid TAC to the CDQ Program; and (2) discontinuing the squid CDQ allocation. An increase of the squid CDQ allocation corresponding to the AFA's increased pollock CDQ allocation is not an available management measure. Section 305(i)(1)(C)(ii)(II) of the Magnuson-Stevens Act requires that, until October 1, 2001, the percentage of a groundfish TAC allocated to the CDQ Program cannot exceed the amount approved by the Council prior to October 1, 1995.

If the allocation of 7.5 percent of the squid TAC to the CDQ Program were removed, squid would no longer be a CDQ species, and the individual CDQ groups would no longer receive allocations of squid CDQ each year. The catch of squid in the CDQ fisheries would accrue to a single squid TAC together with the squid catch from the non-CDQ fisheries. The catch of squid by a CDQ group would not prevent the harvest of their other CDQ species, such as pollock CDQ, because the CDQ groups are only prohibited from exceeding allocations of those species allocated to the CDQ Program.

If squid is removed from the CDQ allocations, NMFS would manage the overall squid TAC to ensure that catch in CDQ and non-CDQ fisheries combined remains within the TAC and does not exceed the overfishing limit. If the catch of squid reaches the overfishing level of 2,620 mt, NMFS would be required to take action to limit all fisheries in which squid catch occurs to ensure that the squid OFL is not exceeded.

In the EA/RIR/IRFA, NMFS presents information about the squid overfishing, acceptable biological catch, TAC limits, and estimated total catch, for the years 1994 through 1999. This information shows that the squid catch by the CDQ and non-CDQ fisheries combined has not exceeded the TAC since 1996 (revisions to ABC and overfishing level definitions were implemented under Amendment 44 to the BSAI FMP in 1997). Based on these data, the overall catch of squid should not exceed amounts harvested in previous years, unless factors related to the amount or location of squid change (factors not related to the pollock catch).

At its June 1999 meeting, the Council recommended removal of squid as a CDQ species. Discontinuing the allocation of squid to the CDQ Program would eliminate the possibility that the incidental catch of squid would constrain a CDQ group's ability to harvest its pollock CDQ allocations. In making this recommendation, the Council believed that allowing the CDQ fisheries to harvest more than 7.5 percent of the squid TAC would not negatively affect overall management of squid and would remove a significant barrier to the CDQ group's realizing the full value of its pollock CDQ allocations.

Removal of squid as a CDQ species would require an amendment to the FMP because Section 13.4.7.3.5 of the FMP currently states that “CDQs will be issued for 7.5 percent of the TAC for all BSAI groundfish species not already covered by another CDQ program.” Squid is one of the groundfish TAC species. The FMP language would have to be amended to issue CDQs for all BSAI groundfish species except squid.

Description of the Proposed Regulations

NMFS proposes the following regulatory amendments to 50 CFR part 679:

1. Define directed fishing for pollock CDQ at § 679.2 as a haul by a catcher/processor or a delivery by a catcher vessel in which pollock represents 60 percent or more of the groundfish catch by weight in the haul or delivery. Clarify that the groundfish species used to calculate total catch includes all species categories defined in Table 1 of the annual BSAI specifications, including squid.

2. In § 679.20, revise paragraph (b)(1)(iii)(A) to remove the allocation of 7.5 percent of the squid TAC to the CDQ Program.

3. In § 679.31(f), remove the reference to the squid CDQ from the paragraph describing the non-specific CDQ reserve. Under this proposed rule, squid would no longer be allocated to the CDQ Program, so NMFS could not allocate a portion of the squid CDQ to each CDQ groups' non-specific CDQ reserve.

4. In § 679.32, permanently implement paragraphs (a)(2) and (e), which were in effect in 1999 under the EIR. Paragraph (a)(2) is a reference to the location of the pollock CDQ catch accounting regulations at paragraph (e). Paragraph (e) contains the requirements that pollock catch meeting the definition of directed fishing for pollock CDQ would accrue against the pollock CDQ allocation, and all other catch of pollock in the CDQ fisheries would accrue against the pollock ICA. Paragraph (e) also reiterates that 100 percent of all pollock caught in the groundfish CDQ fisheries, regardless of the percent of pollock in the haul or delivery, would be retained under the Improved Retention/Improved Utilization regulations at § 679.27.

Classification

At this time, NMFS has not determined that the FMP amendment this proposed rule would implement is consistent with the national standards of the Magnuson-Stevens Act and other applicable law. NMFS, in making that determination, will take into account the data, views, and comments received during the comment period.

This action has been determined to be not significant for purposes of E.O. 12866.

NMFS has prepared an IRFA that describes the impact this proposed rule, if adopted, would have on small entities. A copy of this analysis is available (see ADDRESSES). The IRFA consists of the IRFA for Amendment 66, the IRFA for defining directed fishing for pollock CDQ, and the preamble to this proposed rule. The following is a summary of the IRFA that (1) identifies all of the entities that NMFS believes would be impacted by these proposed regulatory amendments, (2) identifies which of these impacted entities are considered small entities under the Regulatory Flexibility Analysis (RFA), (3) describes how the small entities could be affected by the proposed regulatory amendments and the alternatives considered, (4) discusses significant alternatives that would minimize the economic impacts on these small entities, and (5) describes the projected cumulative effects on small entities of the proposed regulatory amendments to define directed fishing for pollock CDQ and to remove squid as a CDQ species.

The following table summarizes the total number of entities that could be affected by the proposed regulations and the number that are small entities under the RFA. The table shows that the proposed regulatory amendments would affect (1) the six CDQ groups representing the 65 western Alaska communities that are eligible for the CDQ Program; (2) the owners of 10 trawl catcher/processors, 1 mothership, 22 trawl catcher vessels, 3 shoreside processors that harvest and process pollock CDQ; (3) the owners of 7 trawl catcher/processors fishing for other groundfish CDQ; and (4) up to 20 catcher/processors, 3 motherships, 8 shoreside processors, and 120 catcher vessels that participate in the AFA pollock fisheries. The CDQ groups and the communities they represent are small entities under the RFA, as are 40 of the 120 catcher vessels that participate in the AFA pollock fisheries. However, none of the catcher/processors, motherships, shoreside processors, the 22 trawl catcher vessels participating in the CDQ fisheries, or 80 of the 120 trawl catcher vessels participating in the AFA pollock fisheries are small entities.

Category | Total Number That Could Be Affected | Number That are Small Entities
CDQ groups | 6 groups representing 65 communities | 6 groups representing 65 communities
Vessels and Processors in the BSAI Pollock Fisheries | 20 trawl catcher/processors(c/p) 3 motherships 8 shoreplants 120 trawl catcher vessels (cv) | 40 trawl cv
Number that also Participate in Pollock CDQ Fisheries | 10 c/p 1 mothership 3 shoreplants 22 trawl cv | 0
Trawl Vessels that Participate in non-Pollock CDQ Fisheries | 7 trawl c/p | 0

The IRFA, and the remainder of this summary, describes the impacts of the proposed regulatory amendment and alternatives on the affected small entities: the CDQ groups and the communities they represent, and the 40 trawl catcher vessels that participate in the AFA pollock fisheries but do not participate in the CDQ fisheries.

This proposed rule involves two distinct changes that could affect small entities individually or cumulatively: by creating a definition of directed fishing for pollock CDQ, and by removing squid from the CDQ allocations. The proposed definition of directed fishing for pollock CDQ would affect CDQ groups because it would determine how much of the pollock caught by vessels fishing for the CDQ groups would accrue against the pollock CDQ allocation and how much would accrue against the pollock ICA. The total catch of pollock in the CDQ fisheries is the sum of pollock that accrues against the pollock CDQ allocation and pollock that accrues against the pollock ICA. In general, the more pollock from the CDQ fisheries that accrues against the pollock ICA, the higher the royalties to the CDQ groups. In comparison with the status quo, the proposed rule would benefit the CDQ groups because it would allow some pollock catch in the CDQ fisheries to accrue against the pollock ICA rather than requiring all pollock catch in the CDQ fisheries to accrue against the pollock CDQ allocation.

The 40 catcher vessels in the BSAI pollock fisheries that are small entities do not participate in the CDQ fisheries. However, the proposed definition could affect them because any pollock from the CDQ fisheries that accrues against the pollock ICA reduces the pollock directed fishing allowances available to the sector under the AFA. Therefore, the more pollock from the CDQ fisheries that accrues against the pollock ICA, the less pollock that is available to these 40 catcher vessels in directed pollock fisheries. In comparison to the status quo, the proposed rule would not benefit the 40 catcher vessels because it could slightly reduce the amount of pollock available to these 40 catcher vessels in their directed pollock fisheries.

If this proposed definition had been in place in 1999, approximately 98,800 mt of pollock would have accrued to the pollock CDQ allocation and approximately 1,200 mt to the pollock ICA. If this 1,200 mt had been required to accrue against the pollock CDQ allocation (under the status quo), this 1,200 mt would have been available for the directed AFA fisheries. The 40 catcher vessels from the AFA that are small entities could have participated in a 600 mt increase in the pollock AFA allocation to the inshore sector (because the inshore sector is allocated 50 percent of the pollock available to the directed AFA fisheries; 1,200 mt * 50 percent = 600 mt). However, 600 mt of pollock is about 1/10 percent of the total pollock allocation to the inshore sector (423,187 mt pollock). Therefore, NMFS believes that the increase in pollock that would accrue to the pollock ICA under this proposed rule would have a minimal negative impact on the small entities participating in the pollock AFA fisheries (the 40 trawl catcher vessels).

The proposal to remove squid as a CDQ species would likely affect only the 6 CDQ groups. The proposed rule should allow the CDQ groups to fully harvest their pollock CDQ allocations. Without this proposed action, some risk exists that the squid CDQ allocation would be reached before all of the pollock CDQ was harvested. If this occurs, the CDQ groups would lose the opportunity to harvest all of their pollock CDQ and the royalties associated with this pollock catch. Based on the 1998 squid incidental catch rates, this potential loss to the CDQ groups could range from $0 to $8.4 million annually. In addition to the loss of royalty revenue, the CDQ groups also would lose profit sharing and employment opportunities that would have been associated with full harvest of the pollock CDQ. Therefore, NMFS expects this proposed action to benefit the CDQ groups.

The proposal to remove squid as a CDQ species is not expected to negatively affect any other entity participating in the BSAI groundfish fisheries. The catch of squid in the CDQ fisheries would accrue against the overall squid TAC together with squid catch from the non-CDQ fisheries. The CDQ and non-CDQ trawl fisheries could be restricted if the total catch of squid exceeded the squid TAC or overfishing limit. However, the squid TAC has not been exceeded since 1996. NMFS does not expect that the TACs for squid or pollock would be exceeded in future years as a result of the proposed action.

The cumulative impacts of the proposed action to define directed fishing for pollock CDQ and to remove squid as a CDQ species on small entities are (1) benefits to the CDQ groups and the 65 communities they represent in the form of increased total catch of pollock in the CDQ fisheries and decreased potential that they would catch less than their full pollock CDQ allocation due to the incidental catch of squid; and (2) potential costs to 40 trawl catcher vessels in the BSAI pollock AFA fisheries in the form of slightly reduced pollock directed fishing allowances to allow for the incidental catch of pollock in the CDQ fisheries as required by the AFA.

NMFS considered several alternatives that could have minimized the negative economic impacts on some of the small entities. The Council could have recommended a definition of directed fishing for pollock CDQ that further increased the amount of pollock catch in the CDQ fisheries that would accrue against the pollock ICA, thereby increasing the benefits to certain small entities. Using maximum retainable amounts to define directed fishing for pollock CDQ would have allowed the CDQ groups to catch as much pollock as they wished while CDQ fishing and to discard amounts of pollock above the maximum retainable amounts. This alternative would require regulatory discards of pollock catch that exceeds the maximum retainable amounts. In addition, this alternative would increase the potential negative impacts to another group of small entities affected by the proposed action—the 40 catcher vessels in the AFA pollock fisheries—because increases in the amount of pollock from the CDQ fisheries accruing against the pollock ICA would decrease the directed pollock allowance to the AFA fisheries.

The Council also considered an alternative that could have further minimized negative economic impacts on the 40 catcher vessels in the AFA pollock fisheries: establishing a 40-percent threshold rather than 60 percent. Under this alternative, less pollock from the CDQ fisheries would accrue against the pollock ICA than would accrue under the preferred alternative. However, the Council considered the trade-off in impacts to the participants in the AFA pollock fisheries and the CDQ fisheries and determined that the amount of pollock that would accrue against the pollock ICA under the preferred alternative was not likely to significantly affect the 40 trawl catcher vessels or other participants in the AFA fisheries.

The President has directed Federal agencies to use plain language in their communications with the public, including regulations. To comply with that directive, we seek public comment on any ambiguity or unnecessary complexity arising from the language used in this proposed rule.

List of Subjects in 50 CFR Part 679

Alaska, Fisheries, Recordkeeping and reporting requirements.

Dated: July 9, 2000 .
Penelope D. Dalton,
Assistant Administrator for Fisheries, National Marine Fisheries Service.

For the reasons set out in the preamble, 50 CFR part 679 is proposed to be amended as follows:

PART 679—FISHERIES OF THE EXCLUSIVE ECONOMIC ZONE OFF ALASKA

1. The authority citation for part 679 continues to read as follows:

Authority: 16 U.S.C. 773 et seq., 1801 et seq. and 3631 et seq.

2. In § 679.2, the definition for “Directed fishing for pollock CDQ” is added to read as follows:

§ 679.2 Definitions.

* * * * *

Directed fishing for pollock CDQ means, for purposes of determining whether pollock caught while CDQ fishing accrues against the pollock CDQ allocation or the pollock incidental catch allowance, a vessel operator using trawl gear is directed fishing for pollock CDQ if pollock represents 60 percent or more of the total catch of groundfish species by weight in a haul by a catcher/processor or a delivery by a catcher vessel. The groundfish species used to calculate total catch includes all species categories defined in Table 1 of the annual BSAI specifications.

* * * * *

3. In § 679.20, paragraph (b)(1)(iii)(A) is revised to read as follows:

§ 679.20 General limitations.

* * * * *

(b) * * *

(1) * * *

(iii) * * *

(A) Groundfish CDQ Reserve. Except as limited by § 679.31(a), one half of the nonspecified reserve established by paragraph (b)(1)(i) of this section for all species except squid is apportioned to the groundfish CDQ reserve.

* * * * *

4. In § 679.31, paragraph (f) is revised to read as follows:

§ 679.31 CDQ reserves.

* * * * *

(f) Non-specific CDQ reserve. Annually, NMFS will apportion 15 percent of each arrowtooth flounder and “other species” CDQ for each CDQ group to a non-specific CDQ reserve. A CDQ group's non-specific CDQ reserve must be for the exclusive use of that CDQ group. A release from the non-specific CDQ reserve to the CDQ group's arrowtooth flounder or “other species” CDQ is a technical amendment to a community development plan as described in § 679.30(g)(5). The technical amendment must be approved before harvests relying on CDQ transferred from the non-specific CDQ reserve may be conducted.

* * * * *

5. In § 679.32, paragraph (a)(2) is revised and paragraph (e) is added to read as follows:

§ 679.32 Groundfish and halibut CDQ catch monitoring.

(a) * * *

(2) Pollock CDQ. Requirements for the accounting of pollock while CDQ fishing are at paragraph (e) of this section.

* * * * *

(e) Pollock CDQ. (1) Directed fishing for pollock CDQ. Owners and operators of vessels directed fishing for pollock CDQ as defined at § 679.2 and processors taking deliveries from vessels directed fishing for pollock CDQ must comply with all applicable requirements of paragraphs (a) through (d) of this section. Pollock catch by vessels directed fishing for pollock CDQ will accrue against the pollock CDQ for the CDQ group.

(2) Catch of pollock by vessels not directed fishing for pollock CDQ. Pollock catch by vessels groundfish CDQ fishing, but not directed fishing for pollock CDQ as defined at § 679.2, will not accrue against the pollock CDQ for the CDQ group.

(3) Operators of all vessels participating in any CDQ fishery must retain all pollock caught while CDQ fishing as required at § 679.27 (IR/IU).

* * * * *

[FR Doc. 00-18019 Filed 7-14-00; 8:45 am]

BILLING CODE 3510-22-F